DEPARTMENT OF THE INTERIOR

Bureau of Land Management

[LLWY930000-L16100000-DS0000]

Notice of Intent To Extend the Public Scoping Period for the Rock Springs Resource Management Plan (RMP) and To Amend the 2008 Rawlins RMP To Address Wild Horse and Burro Management in the Rock Springs and Rawlins Field Offices, WY

AGENCY: Bureau of Land Management, Interior.

ACTION: Notice of intent.

SUMMARY: In compliance with the National Environmental Policy Act of 1969 (NEPA), as amended, and the Federal Land Policy and Management Act of 1976 (FLPMA), as amended, the Bureau of Land Management (BLM) intends to extend the scoping period for an additional 30 days for the ongoing Rock Springs RMP, which was initiated on February 2, 2011, to address wild horse and burro management in the Rock Springs Field Office and to amend the 2008 Approved Rawlins RMP for the Adobe Town Herd Management Area in the Rawlins Field Office in Wyoming. The BLM, by this notice, is announcing the beginning of the scoping process to solicit public comments and identify issues that will influence the scope of the environmental analysis, including alternatives, and guide the planning process for wild horse and burro management.

DATES: This notice extends the scoping period initiated on February 2, 2011 for wild horse and burro management in the ongoing Rock Springs RMP and associated environmental impact statement (EIS) and initiates the public scoping process for wild horse and burro management for the Adobe Town Herd Management Area (HMA) for the amendment of the 2008 Approved Rawlins RMP.

Comments on issues relating to these two planning efforts may be submitted in writing until September 16, 2013. Two public scoping meetings concerning wild horse and burro management will be held in Rock Springs and Rawlins, Wyoming. The meeting times and addresses will be announced through the local news media, newspapers, and the BLM Web site at http://www.blm.gov/wy/st/en/programs/Planning/rmps/RockSprings.html at least 15 days prior to the event. In order to be included in the Draft Rock Springs RMP/EIS, all comments must be received prior to the close of the scoping period or 15 days after the last public scoping meeting, whichever is later. The BLM will provide additional opportunities for public participation upon publication of the Draft Rock Springs RMP/EIS.

ADDRESSES: You may submit comments on issues and planning criteria related to the Rock Springs RMP/EIS and an amendment to the Rawlins RMP by any of the following methods:

Web site: http://www.blm.gov/wy/st/en/programs/Planning/rmps/RockSprings.html;

Email: RockSpringsRMP_WY@blm.gov. Include “Wild Horses” in the subject line of the message;

Fax: 307-352-0329; or

Mail: BLM Rock Springs Field Office, Wild Horse Scoping, 280 Highway 191 North, Rock Springs, Wyoming 82901.

Documents pertinent to this proposal may be examined at the BLM Rock Springs Field Office, during normal business hours: 7:45 a.m. to 4:30 p.m., Monday through Friday, except holidays.

FOR FURTHER INFORMATION CONTACT: Jay D'Ewart, Wild Horse and Burro Specialist, at 307-352-0331. Persons who use a telecommunications device for the deaf (TDD) may call the Federal Information Relay Service (FIRS) at 1-800-877-8339 to speak with Jay D'Ewart during normal business hours. The FIRS is available 24 hours a day, 7 days a week, to leave a message or question with the above individual. You will receive a reply during normal business hours.

SUPPLEMENTARY INFORMATION: On June 27, 2011, the Rock Springs Grazing Association (RSGA) filed a lawsuit (Rock Springs Grazing Association v. Salazar, No. 11-CV-00263-NDF) in the United States District Court for Wyoming contending, in part, that the BLM had violated Section 4 of the Wild Free-Roaming Horses and Burros Act, 16 U.S.C. 1334, by failing to remove strayed animals from private lands controlled by RSGA within the Wyoming checkerboard pattern of mixed public and private land ownership. RSGA-controlled private lands include lands within the BLM's Rock Springs and Rawlins management areas in the Adobe Town, Great Divide Basin, Salt Wells Creek, and White Mountain HMAs.

On April 3, 2013, the United States District Court for the District of Wyoming approved a Consent Decree and Joint Stipulation for Dismissal (Consent Decree) in Rock Springs Grazing Association v. Salazar, No. 11-CV-00263-NDF, that provides in part, “No later than 180 days after this Consent Decree is approved by the Court, BLM will submit to the Federal Register for publication a notice[s] of scoping under NEPA to consider the environmental effects of revising the respective Resource Management Plans for the Rock Springs and Rawlins Field Offices by considering proposed actions that would: (a) Change the Salt Wells [Creek] HMA [Herd Management Area] to a Herd Area, which would be managed for zero wild horses, and if BLM determines there are more than 200 wild horses within the Herd Area, the area will be re-gathered to zero wild horses; (b) Change the [Great] Divide Basin HMA to a Herd Area, which would be managed for zero wild horses, and if BLM determines there are more than 100 wild horses within the Herd Area, the area will be re-gathered to zero wild horses; (c) Change the Adobe Town HMA [Appropriate Management Level] AML to 225-450 wild horses or lower, and that gathered wild horses will not be returned to the Salt Wells area; and (d) Manage the White Mountain HMA as a non-reproducing herd by utilizing fertility control and sterilization methods to maintain a population of 205 wild horses and to initiate gathers if the population exceeds 205 wild horses.” Consent Decree, No. 11-CV-00263-NDF, pp. 6-7.

You may submit comments on issues and planning criteria in writing to the BLM using one of the methods listed in the ADDRESSES section. Before including your address, phone number, email address, or other personal identifying information in your comment, you should be aware that your entire comment—including your personal identifying information—may be made publicly available at any time. While you may ask us in your comment to withhold your personal identifying information from public review, we cannot guarantee that we will be able to do so.

Authority: 40 CFR 1501.7 and 43 CFR 1610.2.

Mary Jo Rugwell,
Associate State Director.

[FR Doc. 2013-19841 Filed 8-15-13; 8:45 am]

BILLING CODE 4310-22-P